DEPARTMENT OF JUSTICE

Notice of Lodging of Proposed Consent Decree Under the Clean Air Act

On October 13, 2021, the Department of Justice lodged a proposed consent decree with the United States District Court for the Southern District of Texas in the lawsuit entitled United States v. Equistar Chemicals, LP; LyondellBasell Acetyls, LLC; and Lyondell Chemical Co., Civil Action No. 4:21-cv-3359.

The United States filed this lawsuit under the Clean Air Act. The complaint seeks injunctive relief and civil penalties based on violations of the Clean Air Act's New Source Review requirements, New Source Performance Standards, National Emissions Standards for Hazardous Air Pollutants, “Title V” program requirements and operating permits, and related Texas and Iowa state implementation plan requirements. The alleged violations involve flares used at petrochemical manufacturing plants owned and operated by the defendants, Equistar Chemicals, LP; LyondellBasell Acetyls, LLC; and Lyondell Chemical Co., in Channelview, Corpus Christi, and LaPorte, Texas, and in Clinton, Iowa. The consent decree requires the defendants to perform injunctive relief and pay a $3,400,000 civil penalty.

The publication of this notice opens a period for public comment on the proposed consent decree. Comments should be addressed to the Assistant Attorney General, Environment and Natural Resources Division, and should refer to United States v. Equistar Chemicals, LP; LyondellBasell Acetyls, LLC; and Lyondell Chemical Co., D.J. Ref. No. 90-5-2-1-11593. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $34.00 (25 cents per page reproduction cost) payable to the United States Treasury. For a paper copy without the exhibits and signature pages, the cost is $20.50.

Jeffrey Sands,
Assistant Section Chief, Environmental Enforcement Section, Environment and Natural Resources Division.

[FR Doc. 2021-22706 Filed 10-18-21; 8:45 am]

BILLING CODE 4410-15-P